NUCLEAR REGULATORY COMMISSION

[NRC-2008-0472]

Notice of Availability of the Final Interim Staff Guidance COL/ESP-ISG-004 on the Definition of Construction and on Limited Work Authorizations; Correction

AGENCY: Nuclear Regulatory Commission.

ACTION: Notice of availability; correction.

SUMMARY: This document corrects a notice appearing in the Federal Register on February 23, 2009 (74 FR 8124), that announced the availability of Final Interim Staff Guidance (ISG) COL/ESP-ISG-004. This action is necessary to correct the Agencywide Documents Access Management System (ADAMS) accession number for the ISG.

FOR FURTHER INFORMATION CONTACT: Ms. Nanette V. Gilles, Division of New Reactor Licensing, Office of the New Reactors, U.S. Nuclear Regulatory Commission, Washington, DC, 20555-0001; telephone 301-415-1180 or e-mail at Nanette.Gilles@nrc.gov.

SUPPLEMENTARY INFORMATION: On page 8124, in the second column, Supplementary Information, sixth line, the ISG's COL/ESP-ISG-004 ADAMS accession number is corrected to read from “ML08290729” to “ML082970729”.

Dated at Rockville, Maryland, this 13th day of March 2009.
For the Nuclear Regulatory Commission.
David B. Matthews,
Director, Division of New Reactor Licensing, Office of New Reactors.

[FR Doc. E9-6111 Filed 3-19-09; 8:45 am]

BILLING CODE 7590-01-P